ENVIRONMENTAL PROTECTION AGENCY

[OPPT-2003-0004; FRL-7294-8]

Access to Confidential Business Information by SRA International, Incorporated

AGENCY: Environmental Protection Agency (EPA).

ACTION: Notice.

SUMMARY: EPA has authorized SRA International, Incorporated, of Arlington and Fairfax, VA, access to information which has been submitted to EPA under all sections of the Toxic Substances Control Act (TSCA). Some of the information may be claimed or determined to be Confidential Business Information (CBI).

DATES: Access to the confidential data submitted to EPA under all sections of TSCA occurred as a result of a modified approved waiver dated February 27, 2003.

FOR FURTHER INFORMATION CONTACT: Barbara A. Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. EPA's Docket Center is open from 8:30 a.m. to 4:30 p.m., Monday through Friday, excluding legal holidays. EPA's Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under Contract Number 68-W-99-038, SRA International, Incorporated, of 2000 15th Street, North Arlington, VA 22201, and 4300 Fairlakes Court, South Building, Fairfax, VA 22033, will assist the Office of Pollution Prevention and Toxics (OPPT) in assessing how well its existing office automation infrastructure meets its programmatic needs and how the infrastructure and its support components can be expanded, enhanced, or modified to meet OPPTS' current and emerging needs more efficiently and securely. SRA International, Incorporated will assist in performing risk assessments on CBI-containing computer systems. Furthermore, the contractor will assist in performing a business analysis and obtain sufficient information on OPPT business, data and applications to populate a Enterprise Architecture support tool that is suitable for submission to cross Agency's efforts, and will, ultimately, function as a tool for OPPT to plan and manage its ongoing Information Technology efforts.

In accordance with 40 CFR 2.306(j), EPA has determined that under Contract Number 68-W-99-038, SRA International, Incorporated will require access to CBI submitted to EPA under all sections of TSCA, to perform successfully the duties specified under the contract.

SRA International, Incorporated personnel was given access to information submitted to EPA under all sections of TSCA. Some of the information may be claimed or determined to be CBI.

SRA International, Incorporated was granted a modified approved waiver on February 27, 2003. This modified waiver was necessary to allow SRA International, Incorporated to assist OPPT in the activities listed above.

EPA is issuing this notice to inform all submitters of information under all sections of TSCA, that the Agency may provide SRA International, Incorporated access to these CBI materials on a need-to-know basis only. All access to TSCA CBI under this contract will take place at EPA Headquarters.

SRA International, Incorporated will be required to adhere to all provisions of EPA's TSCA Confidential Business Information Security Manual.

Clearance for access to TSCA CBI under Contract Number 68-W-99-038 may continue until March 26, 2004.

SRA International, Incorporated personnel will be required to sign nondisclosure agreements and will be briefed on appropriate security procedures before they are permitted access to TSCA CBI.

List of Subjects

Environmental protection, Confidential business information.

Dated: March 5, 2003.
Allan S. Abramson,
Director, Information Management Division, Office of Pollution Prevention and Toxics.

[FR Doc. 03-5915 Filed 3-11-03; 8:45 am]

BILLING CODE 6560-50-S